DEPARTMENT OF THE INTERIOR

Fish and Wildlife Service

Draft Environmental Impact Report/Environmental Impact Statement and Receipt of an Application for an Incidental Take Permit for the Coachella Valley Multiple Species Habitat Conservation Plan, Riverside County, CA

AGENCY: Fish and Wildlife Service, Interior.

ACTION: Notice of availability; reopening of public comment period.

SUMMARY: The Fish and Wildlife Service (Service) is reopening the public comment period on the Draft Coachella Valley Multiple Species Habitat Conservation Plan (MSHCP), Draft Implementing Agreement, and Draft Environmental Impact Report/Environmental Impact Statement (EIR/EIS) for an incidental take permit for 27 species in Riverside County, California.

DATES: To ensure consideration of comments, they must be received on or before March 7, 2005.

ADDRESSES: Comments should be sent to Mr. Jim Bartel, Field Supervisor, U.S. Fish and Wildlife Service, Carlsbad Fish and Wildlife Office, 6010 Hidden Valley Road, Carlsbad, California 92009. You may also submit comments by facsimile to (760) 431-9624.

Information, comments, and/or questions related to the EIR and the California Environmental Quality Act should be submitted to Mr. Jim Sullivan at Coachella Valley Association of Governments, 73710 Fred Waring Drive, Suite 200, Palm Desert, California 92260; facsimile (760) 340-5949.

FOR FURTHER INFORMATION CONTACT: Ms. Therese O'Rourke, Assistant Field Supervisor, U.S. Fish and Wildlife Service, Carlsbad Fish and Wildlife Office (see ADDRESSES); telephone (760) 431-9440; or Mr. Jim Sullivan, Coachella Valley Association of Governments (see ADDRESSES), telephone (760) 346-1127.

SUPPLEMENTARY INFORMATION:

Availability of Documents

Documents available for public review include the permit applications, the Public Review Draft MSHCP and Appendices I (the Technical Appendix) and II (the Planning Agreement), the accompanying Draft Implementing Agreement, and the Draft EIR/EIS.

Individuals wishing copies of the documents should contact the Service by telephone at (760) 431-9440 or by letter to the Carlsbad Fish and Wildlife Office (see ADDRESSES). Copies of the MSHCP, Draft EIR/EIS, and Draft Implementing Agreement also are available for public review, by appointment, during regular business hours, at the Carlsbad Fish and Wildlife Office or at the Coachella Valley Association of Governments (see ADDRESSES). Copies are also available for viewing in each of the Applicant cities, in the Applicants public libraries, the Riverside County Planning Departments, and on the World Wide Web at http://www.cvmshcp.org.

Background

The Coachella Valley Association of Governments, Coachella Valley Conservation Commission (to be formed prior to a permit decision), County of Riverside, Riverside County Flood Control and Water Conservation District, Riverside County Parks and Open Space District, Riverside County Waste Management District, Coachella Valley Water District, Imperial Irrigation District, California Department of Transportation, California Department of Parks and Recreation, Coachella Valley Mountains Conservancy, and the cities of Cathedral City, Coachella, Desert Hot Springs, Indian Wells, Indio, La Quinta, Palm Desert, Palm Springs, and Rancho Mirage (Applicants) have applied to the Service for an incidental take permit pursuant to section 10(a)(1)(B) of the Endangered Species Act of 1973, as amended (Act). The Applicants seek a permit to incidentally take 22 animal species and assurances for 5 plant species, including 17 unlisted species should any of them become listed, under the Act during the term of the proposed 75-year permit. The permit is needed to authorize take of listed animal species (including harm, injury, and harassment) during development in the approximately 1.1 million-acre (1,719-square-mile) Plan Area in the Coachella Valley of Riverside County, California.

On November 5, 2004, we published a “Notice of Availability of a Draft Environmental Impact Report/Environmental Impact Statement and Receipt of an Application for an Incidental Take Permit for the Coachella Valley Multiple Species Habitat Conservation Plan, Riverside County, CA” (69 FR 64581). In that notice, we requested public comment on the Draft MSHCP, Draft Implementing Agreement, and Draft EIR/EIS. The Draft Environmental Impact Statement is the Federal portion of the Draft EIR/EIS prepared jointly by the Service and Coachella Valley Association of Governments to analyze the impacts of the MSHCP. The analyses provided in the Draft EIR/EIS are intended to inform the public of the proposed action, alternatives, and associated impacts; address public comments received during the scoping period for the Draft EIR/EIS; disclose the direct, indirect, and cumulative environmental effects of the proposed action and each of the alternatives; and indicate any irreversible commitment of resources that would result from implementation of the proposed action.

The comment period for the November 5, 2004, notice closed on February 3, 2005. We are now reopening the comment period until March 7, 2005. Comments on the Draft MSHCP, Draft Implementing Agreement, and Draft EIR/EIS need not be resubmitted, as they will be fully considered in the final decision documents.

Authority: This notice is provided pursuant to section 10(a) of the Act as amended (16 U.S.C. 1531 et seq.), and the Service regulations (40 CFR 1506.6) for implementing the National Environmental Policy Act of 1969, as amended (42 U.S.C. 4321 et seq.).

Dated: February 15, 2005.
Ken McDermond,
Deputy Manager, Region 1, California/Nevada Operations Office, Sacramento, California.

[FR Doc. 05-3276 Filed 2-18-05; 8:45 am]

BILLING CODE 4310-55-P